MILLENNIUM CHALLENGE CORPORATION

[MCC FR 11-02]

Notice of the March 23, 2011 Millennium Challenge Corporation Board of Directors Meeting; Sunshine Act Meeting

AGENCY: Millennium Challenge Corporation.

TIME AND DATE: 10 a.m. to 12 p.m., Wednesday, March 23, 2011.

PLACE: Department of State, 2201 C Street, NW., Washington, DC 20520.

FOR FURTHER INFORMATION CONTACT: Information on the meeting may be obtained from Melvin F. Williams, Jr., Vice President, General Counsel and Corporate Secretary via e-mail at Corporatesecretary@mcc.gov or by telephone at (202) 521-3600.

STATUS: Meeting will be closed to the public.

MATTERS TO BE CONSIDERED: The Board of Directors (the “Board”) of the Millennium Challenge Corporation (“MCC”) will hold a meeting to discuss upcoming compact closeouts, approach to results reporting and an update on compact operations. The agenda items are expected to involve the consideration of classified information and the meeting will be closed to the public.

Dated: March 1, 2011.
Melvin F. Williams, Jr.,
VP/General Counsel and Corporate Secretary, Millennium Challenge Corporation.

[FR Doc. 2011-5008 Filed 3-2-11; 11:15 am]

BILLING CODE 9211-03-P